DEPARTMENT OF LABOR

Employment and Training Administration

[TA-W-63,640]

3M Touch Systems; A Subsidiary of 3M, Electro & Communications Division, Milwaukee, WI; Notice of Affirmative Determination Regarding Application for Reconsideration

By application Dated July 30, 2008, a company official requested administrative reconsideration of the negative determination regarding workers' eligibility to apply for Trade Adjustment Assistance (TAA) and Alternative Trade Adjustment Assistance (ATAA) applicable to workers and former workers of the subject firm. The determination was issued on July 16, 2008. The Notice of Determination was published in the Federal Register on July 30, 2008 (73 FR 44284).

The initial investigation resulted in a negative determination based on the finding that imports of touch screens for mobile phones did not contribute importantly to worker separations at the subject firm and no shift of production to a foreign source occurred.

In the request for reconsideration, the petitioner provided additional information about the customers of the subject firm.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 1st day of August 2008.
Elliott S. Kushner,
Certifying Officer, Division of Trade Adjustment Assistance.

[FR Doc. E8-18586 Filed 8-11-08; 8:45 am]

BILLING CODE 4510-FN-P